ENVIRONMENTAL PROTECTION AGENCY

[FRL-6955-2]

Science Advisory Board; Notification of Public Advisory Committee Meetings

Pursuant to the Federal Advisory Committee Act, Public Law 92-463, notice is hereby given of two meetings of the Ecological Processes and Effects Committee (EPEC) of the US EPA Science Advisory Board (SAB). The meetings are open to the public, however, seating is limited and available on a first come basis. Important Notice: Documents that are the subject of SAB reviews are normally available from the originating EPA office and are not available from the SAB Office—information concerning availability of documents from the relevant Program Office is included below.

1. Ecological Processes and Effects Committee (EPEC)—Teleconference Meeting April 3, 2001

The Ecological Processes and Effects Committee will meet by conference call from 3:00 to 5:00 pm Eastern time on Tuesday, April 3, 2001. Members of the public wishing to call-in to the teleconference must make arrangements with Ms. Mary Winston by noon the Wednesday before the meeting. Instructions about how to participate in the conference call can be obtained by calling Ms. Mary Winston, Management Assistant, at (202) 564-4538, or via e-mail at: winston.mary@epa.gov.

Purpose of the Meeting—The purpose of the April 3, 2001 conference call meeting is to allow the Committee and the Agency to complete preparations for the face-to face meeting on April 20, 2001. The Agency will provide a briefing for the Committee on the Science to Achieve Results (STAR) Water and Watersheds program (see background below), and the Committee will review the charge questions and review materials provided to them for the April 20, 2001 meeting.

Availability of Materials and Contact Information—See below.

2. Ecological Processes and Effects Committee (EPEC)—April 20, 2001

The Ecological Processes and Effects Committee will meet on Friday, April 20, 2001 at the Radisson Hotel Fisherman's Wharf, 250 Beach Street, San Francisco, CA 94133, telephone (416) 392-6700. The meeting will convene at 8:30 am Pacific time and will adjourn no later than 5 pm.

Purpose of the Meetings—The Committee will review the STAR Water and Watersheds program, based upon (a) written materials provided by the EPA, and (b) the research status reports presented at the EPA-sponsored STAR Water and Watersheds Research Grants Progress Review Meeting, being held April 17-19, 2001 at the Radisson Hotel Fisherman's Wharf. (Information on the EPA-sponsored meeting may be obtained from Mr. William Stelz—see Availability of Materials below)

Background: The goals of the STAR Water and Watersheds program are to: (a) Develop an improved understanding of the natural and anthropogenic processes that govern the quantity, quality, and availability of water resources in natural and human-dominated systems, and an understanding to the structure, function, and dynamics of the terrestrial and aquatic ecosystems that comprise watersheds; and (b) promote integration across the biological, physical, and social sciences in the area of watershed management.

In 1995, a joint solicitation sponsored by EPA-STAR and the National Science Foundation (NSF) was advertised. Six hundred eighty-five proposals were received; 21 grants were funded by EPA and 15 by NSF. Because of the overwhelming response, the RFA was narrowed and has been the basis of the program ever since. In 1996, 11 grants were funded (8 EPA, 3 NSF); in 1997, 14 grants were funded (IO EPA, 4 NSF); in 1998, 15 grants were funded (9 EPA, 3 NSF, 3 USDA (new partner)); in 2000, 11 were funded (8 EPA, 1 USDA, 2 NSF).

The essence of the RFA is a Venn Diagram with intersecting circles of the ecological, physical and social sciences. Since 1996, only those proposals that integrate across all circles have been eligible for funding. In addition to integrating across disciplines, each proposal must demonstrate stakeholder involvement.

While the basic RFA has been stable over time, there have been shifts in programmatic emphasis. In 1997, the RFA focused on watershed restoration, in 1998 on urban systems, and in 2000 on projects relevant to the development of Total Maximum Daily Load (TMDL) assessments. From Fiscal Year 1995 to 2000, the STAR Water and Watersheds grants have totaled about $30 million from EPA, about $12 million from NSF, and about $4 by the U.S. Department of Agriculture.

Charge to the Committee—The Agency is asking the Committee to consider the following charge questions as it evaluates the STAR Water and Watersheds program:

Program Design and Impact

(a) Are the STAR Water and Watershed grants, taken collectively, producing a body of research that will improve our practical understanding of: (a) “Natural and anthropogenic processes that govern the quantity, quality, and availability of water resources in natural and human-dominated systems,” and (b) “the structure, function, and dynamics of the terrestrial and aquatic ecosystems that comprise watersheds”

(b) Are the research findings likely to make a difference in environmental protection (i.e., are research results influencing Agency programs, directions, or regulations? influencing other organizations and other researchers?)

(c) Is the requirement that grant proposals integrate ecological, physical and social sciences producing a unique body of research? Would funding each of the science areas individually have the same outcome? Is the integrated approach so important that it is giving us new insights into decision-making at the watershed scale?

(d) As a result of the Water and Watersheds program, do we see any major advancements or breakthroughs in watershed science or interdisciplinary integration across the relevant disciplines?

(e) How is the program perceived within and outside the research community? What changes would you recommend to the program managers?

Availability of Materials—Copies of background materials provided to the Committee can be obtained by contacting Mr. William Stelz, U.S. Environmental Protection Agency, Office of Research and Development/NCER, 1200 Pennsylvania Ave, NW, Mail Code 8723R, Washington, DC 20460. Mr. Stelz may also be contacted at telephone (202) 564-6834 or via e-mail at stelz.william@epa.gov. Information on the STAR program also is available at http://es.epa.gov.ncerqa/grants. The draft meeting agenda will be posted on the SAB website (http://www.epa.gov/sab) approximately two weeks before the meeting.

FOR FURTHER INFORMATION: Any member of the public wishing further information concerning this meeting or wishing to submit brief oral comments (10 minutes or less) must contact Ms. Stephanie Sanzone, Designated Federal Officer, Science Advisory Board (1400A), U.S. Environmental Protection Agency, 1200 Pennsylvania Avenue, NW, Washington, DC 20460; telephone (202) 564-4561; fax (202) 501-0582; or via e-mail at sanzone.stephanie@epa.gov. Requests for oral comments must be in writing (e-mail, fax or mail) and received by Ms. Sanzone no later than noon Eastern Standard Time on the Wednesday before the scheduled meeting.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to Ms. Sanzone at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. Sanzone at least five business days prior to the meeting so that appropriate arrangements can be made.

Dated: March 12, 2001
Donald G. Barnes,
Staff Director, Science Advisory Board.

[FR Doc. 01-6708 Filed 3-16-01; 8:45 am]

BILLING CODE 6560-50-P